DEPARTMENT OF TRANSPORTATION

Federal Railroad Administration

[Docket No. FRA-2000-7257, Notice No. 24]

Railroad Safety Advisory Committee; Notice of Meeting

AGENCY: Federal Railroad Administration (FRA), Department of Transportation (DOT).

ACTION: Notice of Railroad Safety Advisory Committee (“RSAC”) meeting.

SUMMARY: FRA announces the next meeting of the RSAC, a Federal Advisory Committee that develops railroad safety regulations through a consensus process. The meeting will address a wide range of topics, including possible adoption of specific recommendations for regulatory action.

DATES: The meeting of the RSAC is scheduled to commence at 9:30 a.m. and conclude at 4 p.m. on Monday, April 23, 2001.

ADDRESSES: The meeting of the RSAC will be held at the Mayflower, a Renaissance Hotel, in the Colonial Room, 1127 Connecticut Avenue, NW., Washington, DC 20036, (202) 347-2000. The meeting is open to the public on a first-come, first-served basis and is accessible to individuals with disabilities. Sign and oral interpretation can be made available if requested 10 calendar days before the meeting.

FOR FURTHER INFORMATION CONTACT: Trish Paolella, or Lydia Leeds, RSAC Coordinators, FRA, 1120 Vermont Avenue, NW., Stop 25, Washington, DC 20590, (202) 493-6212/6213 or Grady Cothen, Deputy Associate Administrator for Safety Standards and Program Development, FRA, 1120 Vermont Avenue, NW., Mailstop 25, Washington, DC 20590, (202) 493-6302.

SUPPLEMENTARY INFORMATION: Pursuant to section 10(a)(2) of the Federal Advisory Committee Act (Pub. L. 92-463), FRA is giving notice of a meeting of the Railroad Safety Advisory Committee (“RSAC”). The meeting is scheduled to begin at 9:30 a.m. and conclude at 4 p.m. on Monday, April 23, 2001. The meeting of the RSAC will be held at the Mayflower Hotel in the Colonial Room, 1127 Connecticut Avenue, NW., Washington, DC 20036, (202) 347-7000. All times noted are Eastern Standard Time.

RSAC was established to provide advice and recommendations to the FRA on railroad safety matters. The Committee consists of 48 individual voting representatives and five associate representatives drawn from among 32 organizations representing various rail industry perspectives, two associate representatives from the agencies with railroad safety regulatory responsibility in Canada and Mexico and other diverse groups. Staffs of the National Transportation Safety Board and Federal Transit Administration also participate in an advisory capacity.

The RSAC will be briefed on the current status of activities of RSAC working groups and task forces responsible for carrying out tasks the RSAC has accepted involving blue signal protection, cab working conditions, and the definition of reportable “train accident.”

There will be discussion about Training and Qualification of Safety Critical personnel, a presentation of a proposed task to conform the accident and incident regulations to new Occupational Safety and Health Act requirements and to make necessary revisions to the reporting guide, and a review and discussion of pending rule making petitions and pending tasks.

Informational status briefings concerning the Safety Assurance Compliance Program efforts and the new RSAC website will be presented.

Please refer to the notice published in the Federal Register on March 11, 1996 (61 FR 9740) for more information about the RSAC.

Issued in Washington, DC on March 25, 2001.
George A. Gavalla,
Associate Administrator for Safety.

[FR Doc. 01-8436 Filed 4-5-01; 8:45 am]

BILLING CODE 4910-06-P